DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than March 12, 2020.

Interested persons are invited to submit written comments regarding the subject matter of the investigations to the Administrator, Office of Trade Adjustment Assistance, at the address shown below, not later than March 12, 2020.

The petitions filed in this case are available for inspection at the Office of the Administrator, Office of Trade Adjustment Assistance, Employment and Training Administration, U.S. Department of Labor, Room N-5428, 200 Constitution Avenue NW, Washington, DC 20210.

Signed at Washington, DC, this 11th day of February 2020.
Hope D. Kinglock,
Certifying Officer, Office of Trade Adjustment Assistance.

APPENDIX

112 TAA Petitions Instituted Between 1/1/20 and 1/31/20
TA-W | Subject firm (petitioners) | Location | Date of institution | Date of petition
95524 | Cree (State/One-Stop) | Morgan Hill, CA | 01/02/20 | 12/31/19
95525 | Optum Services Inc. (State/One-Stop) | Hartford, CT | 01/02/20 | 12/31/19
95526 | Parkdale Mills (Workers) | Galax, VA | 01/02/20 | 12/21/19
95527 | Wells Fargo (Workers) | Concord, CA | 01/02/20 | 01/01/20
95528 | IAC, Dayton LLC (Company) | Dayton, TN | 01/03/20 | 01/02/20
95529 | ATI Holdings, LLC (State/One-Stop) | Bolingbrook, IL | 01/06/20 | 01/03/20
95530 | Halliburton Energy Services (Workers) | El Reno, OK | 01/06/20 | 01/04/20
95531 | Mercari, Inc. (Workers) | Portland, OR | 01/06/20 | 01/03/20
95532 | Nestle USA, Inc. (State/One-Stop) | Kalamazoo, MI | 01/06/20 | 01/03/20
95533 | Semling-Menke Company (Union) | Merrill, WI | 01/06/20 | 01/03/20
95534 | AT&T (State/One-Stop) | Tualatin, OR | 01/07/20 | 01/06/20
95535 | JLL (Workers) | Westmont, IL | 01/07/20 | 01/06/20
95536 | Johnson Controls (State/One-Stop) | Plymouth, MN | 01/07/20 | 01/06/20
95537 | State Street Corporation (State/One-Stop) | Boston, MA | 01/07/20 | 01/06/20
95538 | TMK Ipsco (State/One-Stop) | Blytheville, AR | 01/07/20 | 01/06/20
95539 | U.S. Bank, Portland Columbia Center (State/One-Stop) | Portland, OR | 01/07/20 | 01/06/20
95540 | Applied Materials, Inc. (State/One-Stop) | Kalispell, MT | 01/08/20 | 01/06/20
95541 | Health Care Strategies (State/One-Stop) | Richardson, TX | 01/08/20 | 01/07/20
95542 | Honeywell (State/One-Stop) | Atlanta, GA | 01/08/20 | 01/07/20
95543 | Rite-Aid (State/One-Stop) | Lancaster, CA | 01/08/20 | 01/07/20
95544 | Sanko Electronics America Inc. (State/One-Stop) | Torrance, CA | 01/08/20 | 01/07/20
95545 | United States Steel (Workers) | Braddock, PA | 01/08/20 | 01/07/20
95546 | XPO Logistics (Company) | Hazelwood, MO | 01/08/20 | 01/07/20
95547 | Google (State/One-Stop) | Mountain View, CA | 01/09/20 | 01/08/19
95548 | HCL America (State/One-Stop) | Webster, NY | 01/09/20 | 01/08/19
95549 | MAS US Holdings, MAS Acme (Company) | Asheboro, NC | 01/09/20 | 01/08/19
95550 | Branson Ultrasonics Corporation (State/One-Stop) | Honeoye Falls, NY | 01/10/20 | 01/09/20
95551 | Kautex (a Textron Company) (Company) | Detroit, MI | 01/10/20 | 01/09/20
95552 | Koos Manufacturing, Inc. (State/One-Stop) | South Gate, CA | 01/10/20 | 01/09/20
95553 | Alcoa (State/One-Stop) | Point Comfort, TX | 01/13/20 | 01/10/20
95554 | AVMED Health Plans (State/One-Stop) | Gainesville, FL | 01/13/20 | 01/10/20
95555 | SMX Staffing (State/One-Stop) | Winchester, VA | 01/13/20 | 01/10/20
95556 | Spirit Aerosystems, Inc. (State/One-Stop) | Wichita, KS | 01/13/20 | 01/10/20
95557 | Stanley Black and Decker REVISED (State/One-Stop) | Greenfield, IN | 01/13/20 | 01/10/20
95558 | Veritas Genetics (State/One-Stop) | Danvers, MA | 01/13/20 | 01/08/20
95559 | Allianz (State/One-Stop) | Minneapolis, MN | 01/14/20 | 01/13/20
95560 | HP Inc. (Workers) | Boise, ID | 01/14/20 | 01/13/20
95561 | Pace Industries (State/One-Stop) | Arden Hills, MN | 01/14/20 | 01/13/20
95562 | Pier 1 Imports (State/One-Stop) | Jefferson City, MO | 01/14/20 | 01/13/20
95563 | Hologic (State/One-Stop) | Marlborough, MA | 01/15/20 | 01/13/20
95564 | MSX International (State/One-Stop) | Center Line, MI | 01/15/20 | 01/14/20
95565 | Optum Services Inc. (State/One-Stop) | Windsor, CT | 01/15/20 | 01/14/20
95566 | Autolite (Workers) | Duncan, SC | 01/16/20 | 01/15/20
95567 | Metal Box International (State/One-Stop) | Chicago, IA | 01/16/20 | 01/15/20
95568 | Optum Technology (State/One-Stop) | San Francisco, CA | 01/16/20 | 01/15/20
95569 | Almatis, Inc. (Workers) | Leetsdale, PA | 01/17/20 | 01/16/20
95570 | Hutchinson Technology (Company) | Hutchinson, MN | 01/17/20 | 01/16/20
95571 | Pierce Pacific Manufacturing Inc. (State/One-Stop) | Portland, OR | 01/17/20 | 01/16/20
95572 | Tektronix Inc. (State/One-Stop) | Beaverton, OR | 01/17/20 | 01/16/20
95573 | United States Marble (State/One-Stop) | Remus, MI | 01/17/20 | 01/16/20
95574 | Walmart GBS (Workers) | Charlotte, NC | 01/17/20 | 01/16/20
95575 | Zions Bancorporation (State/One-Stop) | Salt Lake City, UT | 01/17/20 | 01/16/20
95576 | C&D Technologies (Union) | Milwaukee, WI | 01/21/20 | 01/17/20
95577 | Constantia Colmar (Workers) | Colmar, PA | 01/21/20 | 01/17/20
95578 | EnTech Plastics, Inc. (Company) | Corry, PA | 01/21/20 | 01/20/20
95579 | Heraeus Precious Metals North America Conshohocken, LLC (Workers) | West Conshohocken, PA | 01/21/20 | 01/17/20
95580 | Philadelphia Energy Solutions (Union) | Philadelphia, PA | 01/21/20 | 01/17/20
95581 | Blue Cross Blue Shield (State/One-Stop) | Virginia, MN | 01/22/20 | 01/21/20
95582 | Fort Dearborn Company (State/One-Stop) | Harahan, LA | 01/22/20 | 01/21/20
95583 | Metal Box International (State/One-Stop) | Franklin Park, IL | 01/22/20 | 01/21/20
95584 | Norma Group Inc. (State/One-Stop) | Auburn Hills, MI | 01/22/20 | 01/21/20
95585 | Northern Star Generation Services (State/One-Stop) | Colver, PA | 01/22/20 | 01/21/20
95586 | P&F Systems (State/One-Stop) | Auburn Hills, MI | 01/22/20 | 01/21/20
95587 | YS Industry INC (State/One-Stop) | Vernon, CA | 01/22/20 | 01/21/20
95588 | Cal Amp (State/One-Stop) | Oxnard, CA | 01/23/20 | 01/22/20
95589 | Ducommun Aerosturctures Inc. (State/One-Stop) | Parsons, KS | 01/23/20 | 01/22/20
95590 | International Automotive Components (Company) | Mendon, MI | 01/23/20 | 01/22/20
95591 | Liberty Mutual Insurance (Workers) | Montoursville, PA | 01/23/20 | 01/22/20
95592 | Prime Healthcare—Saint John Hospital (State/One-Stop) | Leavenworth, KS | 01/23/20 | 01/22/20
95593 | Sakthi Automotive Group USA (Company) | Detroit, MI | 01/23/20 | 01/22/20
95594 | Wipro Technologies for Comcast Xfinity Cable Communications (State/One-Stop) | Englewood, CO | 01/23/20 | 01/22/20
95595 | Full Circle Recycling (State/One-Stop) | Johnston, RI | 01/24/20 | 01/17/20
95596 | J.R. Vinagro Corporation (State/One-Stop) | Johnston, RI | 01/24/20 | 01/23/20
95597 | LSC Communications (State/One-Stop) | Mattoon, IL | 01/24/20 | 01/23/20
95598 | Lucky's Market (State/One-Stop) | St. Louis, MO | 01/24/20 | 01/23/20
95599 | Pier 1 Imports (State/One-Stop) | St. Louis, MO | 01/24/20 | 01/23/20
95600 | Siletz Trucking Company (State/One-Stop) | Independence, OR | 01/24/20 | 01/23/20
95601 | Timken (State/One-Stop) | Fort Scott, KS | 01/24/20 | 01/22/20
95602 | Tri-Starr Management Services REVISED (State/One-Stop) | Jeffersonville, IN | 01/24/20 | 01/23/20
95603 | Agilent Technologies (State/One-Stop) | Ankeny, IA | 01/27/20 | 01/24/20
95604 | The Atlas Group (State/One-Stop) | Wichita, KS | 01/27/20 | 01/24/20
95605 | Cox Machine (State/One-Stop) | Wichita, KS | 01/27/20 | 01/24/20
95606 | Optum Services Inc. (State/One-Stop) | Rocky Hill, CT | 01/27/20 | 01/24/20
95607 | Premier Surfaces (State/One-Stop) | Chantilly, VA | 01/27/20 | 01/24/20
95608 | Schenker Inc. (State/One-Stop) | Wichita, KS | 01/27/20 | 01/24/20
95609 | XPO Logistics (Company) | Hazelwood, MO | 01/27/20 | 01/24/20
95610 | Aquity Solutions (State/One-Stop) | Cary, NC | 01/28/20 | 01/27/20
95611 | Bank of New York Mellon (State/One-Stop) | Pittsburgh, PA | 01/28/20 | 01/27/20
95612 | Georgia-Pacific Gypsum (State/One-Stop) | Cuba, MO | 01/28/20 | 01/27/20
95613 | Hudson's Bay Company (Workers) | Wilkes-Barre, PA | 01/28/20 | 01/27/20
95614 | LSC Communications US, LLC (State/One-Stop) | Strasburg, VA | 01/28/20 | 01/24/20
95615 | Restwell Mattress Factory (State/One-Stop) | Eden Prairie, MN | 01/28/20 | 01/28/20
95616 | Sleep Number Corporation (State/One-Stop) | Minneapolis, MN | 01/28/20 | 01/28/20
95617 | Bluestone Coke LLC (Workers) | Birmingham, AL | 01/29/20 | 01/28/20
95618 | Branson Ultrasonics Corporation (State/One-Stop) | Danbury, CT | 01/29/20 | 01/28/20
95619 | Concentrix (State/One-Stop) | Arnold, MO | 01/29/20 | 01/28/20
95620 | Express Clothing (State/One-Stop) | St. Peters, MO | 01/29/20 | 01/28/20
95621 | HCL/ComDoc (State/One-Stop) | North Canton, OH | 01/29/20 | 01/28/20
95622 | Joyson Safety (State/One-Stop) | Knoxville, TN | 01/29/20 | 01/28/20
95623 | Neuro Spine Institute (Pacific Sports and Spine) (State/One-Stop) | Eugene, OR | 01/29/20 | 01/28/20
95624 | PVH Corporation (State/One-Stop) | Brinkley, AR | 01/29/20 | 01/28/20
95625 | Schawk USA, Inc. (State/One-Stop) | Cincinnati, OH | 01/29/20 | 01/27/20
95626 | TLC & Associates (State/One-Stop) | Alamogordo, NM | 01/29/20 | 01/28/20
95627 | Comfort Holding, LLC operating as Innocor, Inc. (State/One-Stop) | West Chicago, IL | 01/30/20 | 01/29/20
95628 | Corsicana Bedding, LLC (State/One-Stop) | Aurora, IL | 01/30/20 | 01/29/20
95629 | Astoria Forest Products (State/One-Stop) | Astoria, OR | 01/31/20 | 01/30/20
95630 | Elite Comfort Solutions (State/One-Stop) | Fort Smith, AR | 01/31/20 | 01/27/20
95631 | JW Aluminum (State/One-Stop) | St. Louis, MO | 01/31/20 | 01/30/20
95632 | Mitec Powertrain, Inc. (Company) | Findlay, OH | 01/31/20 | 01/30/20
95633 | Mohawk Industries, Inc. (State/One-Stop) | Melbourne, AR | 01/31/20 | 01/30/20
95634 | Novanta (State/One-Stop) | San Jose, CA | 01/31/20 | 01/30/20
95635 | Smith's Interconnect (State/One-Stop) | Costa Mesa, CA | 01/31/20 | 01/30/20

[FR Doc. 2020-04194 Filed 2-28-20; 8:45 am]

BILLING CODE P